COMMISSION ON CIVIL RIGHTS

Agenda and Notice of Public Meeting of the Arkansas Advisory Committee

Notice is hereby given, pursuant to the provisions of the rules and regulations of the U.S. Commission on Civil Rights (Commission), and the Federal Advisory Committee Act (FACA), that a planning meeting of the Arkansas Advisory Committee to the Commission will convene on Wednesday, April 10, 2013, at 1:00 p.m. and adjourn at approximately 4:30 p.m. (CST). The meeting will convene at University of Little Rock William H. Bowen School of Law, 1201 McMath Avenue, Little Rock, AR 72202. The purpose of the meeting is to discuss and finalize a summary report titled “Who is Guarding Civil Rights in Arkansas? * * * The Need for a Civil Rights Agency”.

Members of the public are entitled to submit written comments. The comments must be received in the regional office by April 26, 2013. The address is U.S. Commission on Civil Rights, 400 State Avenue, Suite 908, Kansas City, Kansas 66101. Persons wishing to email their comments, or to present their comments verbally at the meeting, or who desire additional information should contact Farella E. Robinson, Regional Director, Central Regional Office, at (913) 551-1400, (or for hearing impaired TDD 913-551-1414), or by email to frobinson@usccr.gov.

Hearing-impaired persons who will attend the meeting and require the services of a sign language interpreter should contact the Regional Office at least ten (10) working days before the scheduled date of the meeting.

Records generated from this meeting may be inspected and reproduced at the Central Regional Office, as they become available, both before and after the meeting. Persons interested in the work of this advisory committee are advised to go to the Commission's Web site, www.usccr.gov, or to contact the Central Regional Office at the above email or street address.

The meeting will be conducted pursuant to the provisions of the rules and regulations of the Commission and FACA.

Dated in Washington, DC, March 13, 2013.
David Mussatt,
Acting Chief, Regional Programs Coordination Unit.

[FR Doc. 2013-06151 Filed 3-15-13; 8:45 am]

BILLING CODE P